DEPARTMENT OF DEFENSE

Department of the Army, Corps of Engineers

Intent To Prepare a Draft Environmental Impact Statement for the Proposed Panoche Valley Solar Farm in San Benito County, CA, Corps Permit Application Number SPN-2009-00443S

AGENCY: Department of the Army, U.S. Army Corps of Engineers, DoD.

ACTION: Notice of intent.

SUMMARY: The U.S. Army Corps of Engineers, San Francisco District (Corps) received a Department of the Army permit application to construct a solar photovoltaic energy plant in San Benito County, CA. The original permit application was received in April 2010 and an updated application was received in August 2010. The application was submitted by Solargen Energy, Incorporated and has since been assumed by Panoche Valley Solar LLC (Applicant). The Corps, as the lead agency responsible for compliance with the National Environmental Policy Act (NEPA), determined that the proposed project may result in significant impacts on the environment, and that the preparation of an Environmental Impact Statement (EIS) is required. The U.S. Fish and Wildlife Service is a cooperating agency for this action. The Corps may invite other Federal, State, local agencies, and tribes to be cooperating agencies.

ADDRESSES: Comments may be submitted electronically or by U.S. Mail. Written comments should be addressed to: Ms. Katerina Galacatos, U.S. Army Corps of Engineers, San Francisco District, Attn: Regulatory Division; 1455 Market Street, 16th Floor, San Francisco, CA 94103-1398. Comments may also be submitted electronically via email to: spn.eis.panoche@usace.army.mil. Please refer to identification number SPN-2009-00443S in all correspondence.

FOR FURTHER INFORMATION CONTACT: To obtain additional information about this EIS, the public scoping process, or to receive a copy of the draft EIS when it is issued, please contact Ms. Katerina Galacatos by telephone: 415-503-6778; or electronic mail: spn.eis.panoche@usace.army.mil. Requests to be placed on the project mailing list may also be submitted by these means.

SUPPLEMENTARY INFORMATION: The applicant has submitted an application for a Department of Army permit pursuant to Section 404 of the Clean Water Act to construct and operate a 399-MegawattAC (MWAC) solar photovoltaic (PV) energy generating facility known as the Panoche Valley Solar Farm (the Project). The Project would be located on private lands in San Benito County, CA. The 4,885-acre (7.6-square-mile) project site is approximately three-quarters of a mile north of the intersection of Panoche Road and Little Panoche Road, approximately 30 miles south of Los Banos and 60 miles west of Fresno. The project site is bordered by rangeland to the north and south, by the Gabilan Range to the west, and by the Panoche Hills to the east. The site elevation ranges from approximately 1,250 feet above mean sea level near the southeast end of the project to approximately 1,400 feet above mean sea level near the west end. Panoche Creek and Las Aguilas Creek flow through the project site. In addition, there are several stock ponds and stream segments in the northern portion of the project site. During the past forty years the project site has been used for grazing. Previously, crop production occurred over much of the project site.

The proposed project would be constructed in five phases and would include a substation, on-site access roads, and buried electrical collection conduit. The construction of three of the road crossings would result in 427 cubic yards of fill into Panoche Creek and Las Aguilas Creek, jurisdictional waters of the U.S. Electricity generated from the project would be transmitted on-site to the state's electrical grid through two existing Pacific Gas and Electric Company (PG&E) transmission lines.

Approximately 2,203 acres would be permanently disturbed by on-site facilities, and an additional 100 acres would be temporarily disturbed during construction. The proposed project would include development of the following components: Installation of approximately 3 million to 4 million photovoltaic panels; photovoltaic module steel support structures; electrical inverters and transformers; an electrical substation with switchyard; buried electrical collection conduit; an operations and maintenance (O&M) building; a septic system and leach field; a wastewater treatment facility and demineralization pond; on-site access roads; security fencing; and transmission support towers and line(s) to interconnect with the PG&E transmission lines that pass through the project site.

The EIS will include an evaluation of a reasonable range of alternatives. Currently, the following alternatives are expected to be analyzed in detail: The no action alternative (no permit issued), and the Applicant's proposed project (proposed action). In addition to the proposed action, the Corps may consider additional alternatives for potential detailed analysis.

Potentially significant issues to be analyzed in the EIS include, but are not limited to, impacts on biological resources (including threatened and endangered species), water resources (including wetlands), cultural resources, traffic and transportation, and air quality.

Other environmental review and consultation requirements for the proposed action include water quality certification pursuant to Section 401 of the Clean Water Act from the California Regional Water Quality Control Board; Section 7 consultation pursuant to the Endangered Species Act; and Section 106 consultation pursuant to the National Historic Preservation Act.

Scoping and Public Comment: All interested members of the public, including native communities and federally recognized Native American Tribes; federal, state, and local agencies; interest groups; and interested individuals, are invited to participate in the scoping process for the preparation of this EIS. Written comments identifying environmental issues, concerns, and opportunities to be analyzed in the EIS will be accepted for 30 days following publication of this Notice of Intent in the Federal Register.

The Corps will hold two public scoping meetings for the EIS. Notice of these meetings will be provided in local news media and on the project Web site (http://www.spn.usace.army.mil/regulatory/actionsofinterest.html) at least 15 days prior to the date of the meeting. Members of the public and representatives of organizations and Federal, state, local, and tribal agencies are invited to attend. Interested parties may provide oral and written comments at the meetings.

Jane M. Hicks,
Chief, Regulatory Division, San Francisco District.

[FR Doc. 2012-17595 Filed 7-18-12; 8:45 am]

BILLING CODE 3720-58-P